COUNCIL ON ENVIRONMENTAL QUALITY

Instructions for Implementing Sustainable Locations for Federal Facilities in Accordance With Executive Order 13514

AGENCY: Council on Environmental Quality.

ACTION: Notice of availability of sustainable locations for Federal facilities implementing instructions.

SUMMARY: The Chair of the Council on Environmental Quality (CEQ) has issued instructions to Federal agencies for integrating sustainable facility location decision-making principles into agency policies and practices, as required under Executive Order 13514 (“E.O. 13514”), “Federal Leadership in Environmental, Energy, and Economic Performance,” signed by President Obama on October 5, 2009. 74 FR 52117, Oct. 8, 2009. The purpose of the Executive Order is to establish an integrated strategy toward sustainability in the Federal Government including, efforts to operate high performance sustainable buildings in sustainable locations, and strengthen the vitality and livability of the communities for Federal agencies. Section 2(f) of the E.O. 13514 directs agencies to “advance regional and local integrated planning by * * * participating in regional transportation planning and recognizing existing community transportation infrastructure; * * * ensuring that planning for new Federal facilities or new leases includes consideration of sites that are pedestrian friendly, near existing employment centers, and accessible to public transit, and emphasizes existing central cities and, in rural communities, existing or planned town centers.” Section 5(b) of E.O. 13514 directs the Chair of CEQ to issue instructions to implement the Executive Order. The Instructions for Implementing Sustainable Locations for Federal Facilities are now available at: http://www.whitehouse.gov/administration/eop/ceq/sustainability/sustainable-locations.

DATES: The Instructions for Implementing Sustainable Locations for Federal Facilities were issued on September 15, 2011.

ADDRESSES: The Instructions for Implementing Sustainable Locations for Federal Facilities are available at: http://www.whitehouse.gov/administration/eop/ceq/sustainability/sustainable-locations.

FOR FURTHER INFORMATION CONTACT: Michelle Moore, Federal Environmental Executive, Office of the Federal Environmental Executive, (202) 395-5750.

SUPPLEMENTARY INFORMATION: Section 5(b) of E.O. 13514 authorizes the Chair of the Council on Environmental Quality (CEQ) to issue instructions to implement the Executive Order. The “Instructions for Implementing Sustainable Locations for Federal Facilities” provide formal direction from the Chair of CEQ to Federal agencies to improve sustainability performance by ensuring a balanced consideration and evaluation of land use, the built environment, cost, security, mission need and competition on facility location decision-making. The Instructions ensure that agencies make responsible choices in the siting of facilities that are owned or leased by the Federal government, striking an appropriate balance among cost, security and sustainability, while meeting agency mission need and ensuring competition. The Instructions apply only to Federal agencies, operations, and programs. Agencies are expected to implement the Instructions as part of their compliance with E.O. 13514.

Authority: E.O. 13514, 74 FR 52117

Dated: October 28, 2011.
Nancy H. Sutley,
Chair.

[FR Doc. 2011-28474 Filed 11-2-11; 8:45 am]

BILLING CODE 3125-W0-P